FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Matthew B. Miller, P.E., Chief, Hazards Study Branch, Federal Insurance and Mitigation Administration, Federal Emergency Management Agency, 500 C Street SW., Washington, DC 20472, (202) 646-3461, or (E-mail) matt.miller@fema.gov.

SUPPLEMENTARY INFORMATION: The Federal Emergency Management Agency (FEMA or Agency) makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and Flood Insurance Rate Map available at the address cited below for each community.

The base flood elevations and modified base flood elevations are made final in the communities listed below. Elevations at selected locations in each community are shown.

National Environmental Policy Act

This rule is categorically excluded from the requirements of 44 CFR part 10, Environmental Consideration. No environmental impact assessment has been prepared.

Regulatory Flexibility Act

The Acting Administrator, Federal Insurance and Mitigation Administration, certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 67

Administrative practice and procedure, flood insurance, reporting and recordkeeping requirements.

Accordingly, 44 CFR part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | # Depth in feet above ground. *Elevation in feet (NGVD)
FLORIDA
Daytona Beach (City), Volusia County (FEMA Docket Nos. 7311 and D-7514)
Atlantic Ocean:
Approximately 450 feet northeast of the intersection of Harvey Avenue and Ocean Avenue South | *10
Approximately 300 feet east of the intersection of Hartford Avenue and Atlantic Avenue North | *13
Intracoastal Waterway:
Approximately 500 feet west of the intersection of Glenview Boulevard and Halifax Avenue North | *5
Approximately 700 feet east of the intersection of San Juan Avenue and North Beach Street | *8
BB-19 Canal Tributary No. 7:
At confluence with B-19 Canal | *30
Approximately 150 feet upstream of Beville Road/State Route 400 | *30
B-19 Canal:
Approximately 1,100 feet upstream of the confluence of B-19 Canal Tributary No. 3 with B-19 Canal | *29
Approximately 100 feet upstream of State Route 400 | *30
Tomoka River:
Approximately 0.8 mile downstream of Eleventh Street | *14
Approximately 400 feet downstream of Interstate 4 | *25
Eleventh Street Canal:
At confluence with Tomoka River | *16
Aproximately 2,810 feet upstream of Clyde Morris Boulevard North | *26
Eleventh Street Canal Tributary No. 2:
At confluence with Eleventh Street | *26
Approximately 2,800 feet upstream of LPGA Boulevard | *26
Just upstream of Clyde Morris Boulevard North | *26
At confluence of Eleventh Street Canal Tributary No. 2A | 26
Eleventh Street Canal Tributary No. 2A: |
At confluence with Eleventh Street Canal Tributary No. 2 | *26
Approximately 2,600 feet upstream of confluence with Eleventh Street Canal Tributary No. 2 | *26
Shooting Range Canal:
At confluence with Tomoka River | *13
At a point just upstream of Clyde Morris Boulevard North | *26
Maps available for inspection at Daytona Beach Public Works Complex, Engineering Department, 950 Bellevue Avenue, Daytona Beach, Florida
———
Daytona Beach Shores (City), Volusia County (FEMA Docket No. 7311)
Atlantic Ocean:
Approximately 400 feet east of the intersection of Ridge Road and Atlantic Avenue South | *10
Approximately 500 feet east of the intersection of Van Avenue and Atlantic Avenue South | *12
Intracoastal Waterway:
Approximately 400 feet west of the intersection of Richards Lane and Peninsula Drive South | *6
At the intersection of Demott Street and Peninsula Drive South | *6
Maps available for inspection at the City of Daytona Beach Shores City Hall, Building Division, 3050 South Atlantic Avenue, Daytona Beach,Florida.
———
Edgewater (City), Volusia County (FEMA Docket No. 7311)
Indian River North/Intracoastal Waterway:
Just on the Easterly side of the intersection of Boston Road and Riverside Drive | *7
Approximately 100 feet east of the intersection of Knapp Avenue and Riverside Drive South | *9
Maps available for inspection at the City of Edgewater Planning Department, 104 North Riverside Drive, Edgewater, Florida.
———
Edgewater (City), Volusia County (FEMA Docket No. 7311)
Indian River North/Intracoastal Waterway:
Just on the Easterly side of the intersection of Boston Road and Riverside Drive | *7
Approximately 100 feet east of the intersection of Knapp Avenue and Riverside Drive South | *9
Maps available for inspection at the City of Edgewater Planning Department, 104 North Riverside Drive, Edgewater, Florida.
———
New Smyrna Beach (City), Volusia County (FEMA Docket No. 7311)
Atlantic Ocean:
Approximately 400 feet east of the intersection of 3rd Avenue East and Atlantic Avenue South | *10
Approximately 0.8 mile north of the intersection of Peninsula Avenue North and Ocean Drive | *12
Indian River North/Intracoastal Waterway:
At the intersection of Ocean Drive and Peninsula Avenue North | *7
Approximately 1,500 feet east of the intersection of Conrad Drive and Redland Drive | *9
Maps available for inspection at the New Smyrna Beach City Hall, 210 Sams Avenue, New Smyrna Beach, Florida
———
Oak Hill (City), Volusia County (FEMA Docket No. 7311)
Atlantic Ocean:
Approximately 120 feet east of the intersection of State Route A1A and Volusia County/Oak Hill corporate limits | *11
Approximately 500 feet from the southern Volusia County/Oak Hill corporate limits along State Route A1A north, then approximately 350 feet east | *12
Indian River North/Intracoastal Waterway:
Approximately 1,500 feet southwest of the intersection of South Street and State Route A1A in Volusia County | *6
Approximately 500 feet east of the intersection of Cheyenne Drive and Golden Bay Boulevard | *8
Maps available for inspection at the Oak Hill City Hall, 234 South U.S. Highway 1, Oak Hill, Florida.
———
Ormond Beach (City), Volusia County (FEMA Docket Nos. 7311 and D-7514)
Atlantic Ocean:
Approximately 350 feet east of the intersection of Ann Rustin Drive and Ocean Shore Boulevard | *10
Approximately 600 feet east of the intersection of Harvard Drive and Florence Street | *12
Halifax River/Intracoastal Waterway:
At the intersection of John Anderson Drive and St. Mark Circle | *4
Approximately 100 feet east of the intersection of Seville Street and Beach Street South | *7
Approximately 200 feet west of intersection of John Anderson Drive and Buckingham Drive | *4
Tomoka River:
Approximately 1.1 miles downstream of confluence of of Thompson Creek | *5
Approximately 1,500 feet upstream of State Route 40 | *10
Misner Branch:
At confluence with Tomoka River | *8
Approximately 100 feet upstream of Handy Avenue | *15
Little Tomoka River:
At confluence with Tomoka River | *10
At State Route 40 | *28
Groover Branch:
At confluence with Tomoka River approximately 1,300 feet downstream of Tymber Run Road | *20
Approximately 340 feet upstream of Tymber Creek Road North | *10
Thompson Creek:
Approximately 470 feet downstream of U.S. Route 1 North | *7
Approximately 0.45 mile upstream of Tomoka Avenue | *8
Eleventh Street Canal Tributary No. 2:
At confluence with Eleventh Street | *26
Approximately 2,800 feet upstream of LPGA Boulevard | *26
Just upstream of Clyde Morris Boulevard North | 26
At confluence of Eleventh Street Canal Tributary No. 2A | 26
Eleventh Street Canal Tributary No. 2A:
At confluence with Eleventh Street Canal Tributary No. 2 | *26
Approximately 2,600 feet upstream of confluence with Eleventh Street Canal Tributary No. 2 | *26
Maps available for inspection at Ormond Beach City Hall, Planning Department, 22 South Beach Street, Room 104, Ormond Beach Florida.
———
Ponce Inlet (Town), Volusia County (FEMA Docket No. 7311)
Atlantic Ocean:
Approximately 300 feet east of the intersection of Old Carriage Road and Atlantic Avenue South | *10
Approximately 750 feet east of the Beach Street and Atlantic Avenue South intersection | *12
Intracoastal Waterway:
At the intersection of Maura Court and Peninsula Drive South | *7
Approximately 2,500 feet south of the intersection of Beach and Sailfish Drive | *9
Maps available for inspection at the Ponce Inlet Town Hall, 4680 South Peninsula Drive, Ponce Inlet, Florida.
———
Port Orange (City), Volusia County (FEMA Docket No. 7311)
B-19 Canal:
Approximately 300 feet upstream of confluence with Spruce Creek | *5
Approximately 150 feet downstream of the confluence of B-19 Canal Tributary No. 5 with B-19 Canal | *29
B-19 Canal Tributary No. 2:
At the confluence with B-19 Canal | *28
Approximately 1,500 feet upstream of confluence with B-19 Canal | *28
Intracoastal Waterway:
At the intersection of Riverview Lane and Simpson Avenue | *6
At the intersection of Portobello Drive and Riverside Drive | *9
Maps available for inspection at the Port Orange City Hall, 1000 City Center Circle, Port Orange, Florida.
———
South Daytona (City), Volusia County (FEMA Docket No. 7311)
Intracoastal Waterway:
At the intersection of Sea Isle Circle and Palmetto Avenue | *6
Approximately 600 feet east of the intersection of Venture Drive and U.S. Route 1 (Ridgewood Avenue South) | *8
Approximately 125 feet southwest of the intersection of Reed Canal Road and Ridgewood Avenue South/U.S. Route 1 | *6
Maps available for inspection at the South Daytona City Hall, 1672 Ridgewood Avenue, South Daytona, Florida.
———
Volusia County (Unincorporated Areas) (FEMA Docket Nos. 7311 and D-7514)
Atlantic Ocean:
Approximately 350 feet east of the intersection of Plaza Drive and Ocean Shore Boulevard | *10
Approximately 300 feet southeast of the intersection of Kingfish Avenue and Atlantic Avenue South | *12
Approximately 500 feet southeast of intersection of Ocean Shore Boulevard and northern county boundary | *12
Halifax River/Intracoastal Waterway:
Approximately 100 feet southwest of the intersection of John Anderson Drive and Highridge Road | *4
Approximately 2,750 feet west of intersection of Cardinal Boulevard and Major Street | *9
Indian River North/Intracoastal Waterway:
Approximately 1,000 feet east of intersection of Pelican Place and Riverside Drive | *7
Approximately 50 feet west of the intersection of Trout Avenue and Atlantic Avenue | *6
Groover Branch:
Approximately 1,250 feet upstream of Tymber Run | *10
Approximately 340 feet upstream of Tymber Creek Road North | *20
Tomoka River:
Approximately 1.17 miles downstream of confluence of Thompson Creek | *5
Approximately 0.96 mile upstream of U.S. Route 92 | *25
Little Tomoka River:
At confluence with Tomoka River, approximately 1,850 feet downstream of Main Trail Road | *10
Approximately 200 feet upstream of State Route 40 | *30
B-19 Canal:
At the confluence of B-19 Canal Tributary No. 2 | *28
Approximately 550 feet northeast of the confluence of B-19 Canal Tributary No. 3 with B-19 Canal | *29
Crescent Lake:
Approximately 6,000 feet northeast of the intersection of Ducan Road and Raulerson Road No. 7 | *7
Approximately 2.84 miles northeast of the intersection of Ducan Road and Raulerson Road No. 7 | *7
Eleventh Street Canal Tributary No. 2:
At confluence with Eleventh Street | *26
Approximately 2,800 feet upstream of LPGA Boulevard | *26
Just upstream of Clyde Morris Boulevard North | *26
At confluence of Eleventh Street Canal Tributary No. 2A | *26
Eleventh Street Canal Tributary No. 2A:
At confluence with Eleventh Street Canal Tributary No. 2 | *26
Approximately 2,600 feet upstream of confluence with Eleventh Street Canal Tributary No. 2 | *26
Shooting Range Canal:
At confluence with Tomoka River | *13
At a point just upstream of Clyde Morris Boulevard North | *26
Maps available for inspection at the Volusia County Emergency Operations Center, 49 Keyton Drive, Daytona, Florida.
GEORGIA
Morgan County (Unincorporated Areas) (FEMA Docket No. D-7510)
Apalachee River:
Approximately 2.98 miles downstream of State Route 186 | *574
Just downstream of State Route 186 | *623
Maps available for inspection at the Morgan County Building Inspector's Office, 384 Hancock Street, Madison, Georgia.
MAINE
Princeton (Town), Washington County (FEMA Docket No. D-7512)
Grand Falls Flowage:
Entire shoreline within the Town of Princeton | *204
Lewy Lake:
Entire shoreline within the Town of Princeton | *204
Long Lake:
Entire shoreline within the Town of Princeton | *204
Maps available for inspection at the Princeton Town Office, 15 Depot Street, Princeton, Maine.
NEW HAMPSHIRE
Strafford (Town), Strafford County (FEMA Docket No. D-7512)
Bow Lake:
Entire shoreline in the Town of Strafford | *517
Maps available for inspection at the Town Office, Route 202A, Center Strafford, New Hampshire.
NEW JERSEY
Summit (City), Union County (FEMA Docket No. D-7510)
Passaic River:
Approximately 200 feet upstream of Old Highway 24/corporate limits | *180
Approximately 0.62 mile (3,250 feet) upstream of Stanley Avenue | *207
Maps available for inspection at the Summit City Hall, 512 Springfield Avenue, Summit, New Jersey.
NEW YORK
Kiryas Joel (Village), Orange County (FEMA Docket No. D-7510)
Coronet Brook:
At the confluence with Tributary No. 25 | *612
Approximately 340 feet upstream of Israel Zupnik Drive | *649
Forest Brook:
At the confluence with Tributary No. 25 | *604
Approximately 0.44 mile upstream of Schunnemunk Road | *760
Highland Brook:
At the confluence with Tributary No. 25 | *609
Approximately 1,470 feet upstream of Bakertown Road | *654
Palm Brook:
Approximately 980 feet downstream of Koznits Road | *677
Approximately 0.38 mile upstream of an Access Road | *833
Tributary No. 25:
Approximately 600 feet downstream of the confluence of Forest Brook | *601
Approximately 200 feet upstream of Krolla Drive | *734
Maps available for inspection at the Kiryas Joel Village Hall, 51 Forest Road, Monroe, New York.
———
Port Jervis (City), Orange County (FEMA Docket No. D-7512)
Neversink River:
Downstream corporate limits | *427
Approximately 0.05 mile downstream of Main Street | *427
Delaware River:
Downstream corporate limits | *448
Upstream corporate limits | *426
Maps available for inspection at the Port Jervis Municipal Building, 14 Hammond Street, Port Jervis, New York 12771.
OHIO
Montezuma (Village), Mercer County (FEMA Docket No. D-7512)
Grand Lake-St. Marys:
At intersection of Wyatt Street and Canal Street | *873
Maps available for inspection at the Montezuma Village Hall, 69 West Main Street, Montezuma, Ohio
———
Willoughby Hills (City), Lake County (FEMA Docket No. D-7510)
Euclid Creek North Tributary:
Approximately 2,800 feet downstream of Bishop Road | *827
Approximately 4,020 feet upstream of Lamplight Lane | *873
Euclid Creek South Tributary:
At confluence with Euclid Creek North Tributary | *832
Approximately 1.1 miles upstream of Bishop Road | *877
Maps available for inspection at the Willoughby Hills City Hall, 35405 Chardon Road, Willoughby Hills, Ohio.
PENNSYLVANIA
Langhorne Manor (Borough), Bucks County (FEMA Docket No. D-7512)
Chubb Run:
At Comly Avenue | *96
Approximately 90 feet upstream of Gillam Avenue | *197
Maps available for inspection at the Langhorne Borough Building, 618 Hulmeville, Langhorne Manor, Pennsylvania.
———
Middletown (Township), Bucks County (FEMA Docket No. D-7512)
Chubb Run:
At confluence with Neshaminy Creek | *40
Approximately 90 feet upstream of Gillam Avenue | *197
Maps available for inspection at the Middletown Township Zoning and Planning Office, 2140 Trenton Road, Levittown, Pennsylvania.
———
Penndel (Borough), Bucks County (FEMA Docket No. D-7512)
Chubb Run:
Approximately 70 feet upstream of Hulmeville Road | *62
Just downstream of CONRAIL | *80
Maps available for inspection at the Penndel Borough Office, 300 Bellevue Avenue, Penndel, Pennsylvania.
SOUTH CAROLINA
Cayce (City), Lexington County (FEMA Docket No. 7311)
Congaree River:
Approximately 100 feet upstream of the confluence of Congaree Creek | *135
Approximately 75 feet upstream of Blossom Street | *153
Congaree Creek:
Approximately 125 feet upstream of the confluence with the Congaree River | *135
Approximately 750 feet downstream of the confluence of Six Mile Creek | *141
Maps available for inspection at the City Hall, 1800 12th Street, Cayce, South Carolina.
———
Colleton County (Unincorporated Areas) (FEMA Docket No. 7295)
Ashepoo River:
Approximately 2.38 miles downstream of CSX Transportation | *8
Approximately 225 feet upstream of Ritter Road | *12
Chessey Creek:
At confluence with Horseshoe Creek | *8
Approximately 75 feet upstream of Charleston Highway | *10
Edisto River:
Approximately 2,000 feet downstream of U.S. Route 17 | *11
Approximately 400 feet upstream of upstream corporate limits (Bamburg/Colleton) | *92
Great Swamp:
Approximately 3.84 miles downstream of South Jeffries Boulevard | *21
Approximately 335 feet upstream of I-95 southbound | *38
Horseshoe Creek:
At confluence with Ashepoo River | *8
Approximately 40 feet upstream of Charleston Highway(State Route 64) | *12
Ireland Creek:
Approximately 500 feet upstream of South Jeffries Boulevard | *32
Approximately 75 feet upstream of Industrial Boulevard | *50
Wolf Creek:
At confluence with Jones Swamp Creek | *44
Approximately 180 feet upstream of Quail Drive | *65
Maps available for inspection at the Colleton County Building Inspector's Office, Benson Street, Walterboro, South Carolina.
———
Columbia (City), Lexington and Richland Counties (FEMA Docket No. 7311)
Gills Creek:
Upstream side of State Route 48 (Bluff Road) | *137
At the Southern Railway Bridge | *138
Saluda River:
At the confluence with the Broad and Congaree Rivers | *155
Approximately 1,625 feet upstream of USGS Gage No. 2-1690 | *172
Rocky Branch:
Approximately 75 feet downstream of Olympia Avenue | *149
Approximately 475 feet upstream of Olympia Avenue | *151
Congaree River (with levee):
Approximately 360 feet upstream of the CSX Transportation crossing | *152
At confluence of Broad and Saluda Rivers | *155
Broad River:
At the confluence with Saluda and Congaree Rivers | *155
Approximately 1,550 feet upstream of the confluence with Saluda and Broad Rivers | *158
Maps available for inspection at the Columbia City Hall, 1225 Laurel Street, Columbia, South Carolina.
———
Lexington County (Unincorporated Areas) (FEMA Docket No. 7311)
Congaree River:
At the county boundary | *128
At the confluence of Broad and Saluda Rivers | *155
Saluda River:
At the confluence with the Congaree River | *155
Approximately 0.95 mile upstream of the confluence with the Congaree River | *156
Congaree Creek:
At the confluence with the Congaree River | *135
Approximately 750 feet downstream of the confluence of Six Mile Creek | *141
Maps available for inspection at the Planning Department, County Administration Building, 212 South Lake Drive, Lexington, South Carolina.
———
Richland County (Unincorporated Areas) (FEMA Docket No. D-7506)
Gills Creek:
At the confluence with the Congaree River | *133
At the Southern Railway bridge | *138
Rocky Branch:
At the confluence with Congaree River | *149
Approximately 475 feet upstream of Olympia Avenue | *151
Tributary G-1:
At the confluence with Gills Creek | *136
Approximately 810 feet upstream of Bluff Road | *141
Reeder Point Branch:
At the confluence with Black Lake | *134
Approximately 140 feet upstream side of State Route 48 (Bluff Road) | *135
Congaree River (with levee):
Approximately 2.66 miles downstream of the confluence with Gills Creek | *128
Approximately 0.5 mile upstream of the CSX Transportation crossing | *152
Congaree River (without levee):
Approximately 42.2 miles upstream of mouth | *131
Approximately 2.3 miles upstream of the Southeastern Beltway (West Bound) | *140
Spears Creek:
Downstream side of Jacobs Mill Pond Road | *221
Approximately 0.5 mile upstream Spears Creek Church Road | *311
Lake Murray:
Entire shoreline within county | *363
Maps available for inspection at the Richland County Planning Department, 2020 Hampton Street, Columbia, South Carolina.
———
West Columbia (City), Lexington County (FEMA Docket No. 7311)
Congaree River:
Approximately 1,250 feet upstream of Blossom Street | *153
Approximately 220 feet downstream of Jarvis Klapman Boulevard | *154
Saluda River:
Approximately 0.93 mile upstream of the confluence with the Congaree River | *156
Approximately 900 feet upstream of the confluence of Double Branch | *172
Maps available for inspection at the City Hall, 1053 Center Street, West Columbia, South Carolina.
TENNESSEE
Selmer (City), McNairy County (FEMA Docket No. D-7512)
Cypress Creek:
Approximately 1,700 feet downstream of South Fourth Street | *433
Approximately 1,855 feet upstream of Purdy Road | *444
Crooked Creek:
At the confluence with Cypress Creek | *439
Approximately 0.5 mile upstream of Highschool Road | *459
Maps available for inspection at the City Hall, 144 North Second Street, Selmer, Tennessee.
VERMONT
Woodstock (Town and Village), Windsor County (FEMA Docket No. D-7510)
Ottauquechee River:
Approximately 550 feet upstream U.S. Route 4 | *697
At the upstream corporate limits | *812
Maps available for inspection at Town Hall, 31 The Green, Woodstock, Vermont.
VIRGINIA
Berryville (Town), Clarke County (FEMA Docket No. D-7510)
Town Run:
Approximately 1,220 feet downstream of Springsbury Road (State Route 613) | *553
Approximately 80 feet upstream of Lincoln Avenue | *599
Maps available for inspection at the Town of Berryville Office, 23 East Main Street, Berryville, Virginia.

(Catalog of Federal Domestic Assistance No. 83.100, “Flood Insurance.”)
Dated: December 11, 2001.
Robert F. Shea,
Acting Administrator, Federal Insurance and Mitigation Administration.

[FR Doc. 01-31034 Filed 12-17-01; 8:45 am]

BILLING CODE 6718-04-P